DEPARTMENT OF HEALTH AND HUMAN SERVICES

Centers for Disease Control and Prevention

Board of Scientific Counselors, National Center for Injury Prevention and Control (NCIPC); Correction

Notice is hereby given of a change in the meeting of the Board of Scientific Counselors, National Center for Injury Prevention and Control (NCIPC); December 4, 2019, 9:00 a.m. to 4:40 p.m., EST; and December 5, 2019, 9:00 a.m. to 11:30 a.m., EST which was published in the Federal Register on October 24, 2019, Volume 84, Number 206, page 57021.

The meeting location has been changed from the Hilton Garden Inn, 3342 Peachtree Road NE, Atlanta, Georgia 30326 to the Centers for Disease Control and Prevention, 4770 Buford Highway NE, Chamblee Campus, Building 106, Conference Room 1-B, Atlanta, Georgia 30341. This Federal facility meeting room accommodates 80 people.

For Further Information Contact: Gwendolyn H. Cattledge, Ph.D., M.S.E.H., Deputy Associate Director for Science, NCIPC, CDC, 4770 Buford Highway NE, Mailstop F-63, Atlanta, Georgia 30341; telephone (770) 488-3953; email address: NCIPCBSC@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2019-25612 Filed 11-25-19; 8:45 am]

BILLING CODE 4163-18-P